DEPARTMENT OF HEALTH AND HUMAN SERVICES

Substance Abuse and Mental Health Services Administration

Center for Substance Abuse Prevention; Notice of Meeting

Pursuant to Public Law 92-463, notice is hereby given of the meeting of the Center for Substance Abuse Prevention's (CSAP) National Advisory Council on February 10, 2009.

The meeting is open and will include discussion of the Center's policy issues, and current administrative, legislative and program developments.

Attendance by the public will be limited to space available. Public comments are welcome. Please communicate with the CSAP Council's Designated Federal Official, Ms. Tia Haynes (see contact information below), to make arrangements to attend, comment or to request special accommodations for persons with disabilities.

Substantive program information, a summary of the meeting, and a roster of Council members may be obtained as soon as possible after the meeting, either by accessing the SAMHSA Committee Web site, https://nac.samhsa.gov/CSAPcouncil/index.aspx, or by contacting Ms. Haynes. The transcript for the open session will also be available on the SAMHSA Council Web site within three weeks after the meeting.

Committee Name: Substance Abuse and Mental Health Services Administration, Center for Substance Abuse Prevention National Advisory Council.

Date/Time/Type: February 10, 2009. From 1 p.m.-5 p.m.: Open.

Place: Gaylord Convention Center, 201 Waterfront Street, National Harbor Room-4 & 5, National Harbor, MD 20745.

Contact: Tia Haynes, Designated Federal Official, SAMHSA/CSAP National Advisory Council, 1 Choke Cherry Road, Room 4-1066, Rockville, MD 20857, Telephone: (240) 276-2436, FAX: (240) 276-2430, E-mail: tia.haynes@samhsa.hhs.gov.

Toian Vaughn,
Committee Management Officer, Substance Abuse and Mental Health, Services Administration.

[FR Doc. E9-1683 Filed 1-26-09; 8:45 am]

BILLING CODE 4162-20-P